DEPARTMENT OF COMMERCE

National Oceanic and Atmospheric Administration

[Docket No. 030506116-3116-01, I.D. 050103E]

RIN 0648-ZB51

Financial Assistance for Fisheries Disasters

AGENCY: National Marine Fisheries Service (NMFS), National Oceanic and Atmospheric Administration (NOAA), Commerce.

ACTION: Notice of solicitation for applications.

SUMMARY: This Fisheries Disasters program provides financial assistance for assistance to the shrimp industries in the Gulf and South Atlantic. The Catalog of Federal Domestic Assistance Number is 11.452, titled Unallied Industry Projects.

DATES: Your application must be received by close of business (5 p.m. eastern standard time on June 27, 2003. Applications received after that time will not be considered for funding. The earliest start date of awards is approximately 45 days after the date of publication of this notice. Applicants should consider this processing time in developing requested start dates for their applications.

ADDRESSES: You can obtain an application package from, National Marine Fisheries Service, State/Federal Liaison Office, 9721 Executive Center Drive N., St. Petersburg, FL 33702. Send completed applications to this same address. You may also obtain forms from: http://caldera.sero.nmfs.gov/grants/grants.htm.

FOR FURTHER INFORMATION CONTACT: Ellie Francisco Roche, Chief, State/Federal Liaison Office at 727-570-5324 or at Ellie.Roche@noaa.gov.

SUPPLEMENTARY INFORMATION:

I. Authority

We are soliciting applications for Federal assistance pursuant to Division N, Title V, Section 501 (Fisheries Disasters),of the Consolidated Appropriations Resolution, 2003 P.L.108-7.

II. Program Description and Purpose

Economic assistance, as described below, is being provided to the South Atlantic shrimp fishery and the Gulf shrimp fishery. $17,500,000 shall be made available for assistance to the shrimp industries in the states of South Carolina, Georgia, North Carolina, and Florida, in proportion to the percentage of the shrimp catch landed by each state, for economic assistance to the South Atlantic shrimp fishery. The State of Florida shall receive only that proportion associated with landings of the Florida east coast fishery.

In addition, $17,500,000 shall be made available for assistance to the shrimp industries in the states of Mississippi, Texas, Alabama, Louisiana, and Florida, in proportion to the percentage of the shrimp catch landed by each state, for economic assistance to the Gulf shrimp fishery. The State of Florida shall receive only that proportion associated with landings of the Florida gulf coast fishery.

Two percent of funds received by each state shall be retained for distribution of additional payments to fishermen with a demonstrated record of compliance with turtle excluder and bycatch reduction device regulations. The remaining funds may be used only for: personal assistance, with priority given to food, energy needs, housing assistance, transportation fuel, and other urgent needs; assistance for small businesses including fishermen, fish processors, and related businesses serving the fishing industry; domestic product marketing and seafood promotion; state seafood testing programs; development of limited entry programs for the fishery; funding or other incentives to ensure wide-spread and proper use of turtle excluder devices and bycatch reduction devices in the fishery; and voluntary capacity reduction programs for shrimp fisheries under limited access. The authority for the assistance described above does not impose residency requirements.

III. Funding Availability

Approximately $35.0 million will be available in fiscal year (FY) 2003 for projects. Consistent with the funding formula discussed in Section II above, of the $17,500,000 provided for economic assistance to the Gulf shrimp fishery, we anticipate that approximately $1,021,080 shall be available for the shrimp industry in Alabama, $1,072,006 shall be available for the shrimp industry in Florida, $8,688,866 shall be available for the shrimp industry in Louisiana, $1,003,307 shall be available for the shrimp industry in Mississippi, and $5,534,740 shall be made available for the shrimp industry in Texas. Of the $17,500,000 provided for economic assistance to the South Atlantic shrimp fishery, we anticipate that approximately $4,877,680 shall be available for the shrimp industry in North Carolina, $3,658,916 shall be available for the shrimp industry in South Carolina, $3,336,624 shall be available for the shrimp industry in Georgia, and $5,626,780 shall be available for the shrimp industry in Florida.

IV. Funding Period and Restrictions

Grants will be awarded for a maximum period of 36 months. Not more than 5 percent of grant funds may be used for administrative expenses, and no funds may be used for lobbying activities or representational expenses. Construction is not an allowable activity under this program. Therefore, applications will not be accepted for construction projects.

V. Cost Sharing

Cost-sharing is not required for this fisheries disasters program.

VI. Eligibility Information

Institutions of higher education, and state, local and Indian tribal governments are eligible to apply.

VII. Application Information

Content, Form and Submission of Applications

Project applications must include a narrative project description which provides a clear presentation of the proposed work, the methods for carrying out the project, and an explanation of how the proposed activities will fulfill the purposes of the disaster assistance, as described in Section II above. Project applications must identify the principal participants, and include copies of any agreements describing the specific tasks to be performed by participants. A budget, which includes a detailed breakdown by category of expenditures, with appropriate cost estimates and justifications as they relate to specific aspects of the project, must be provided.

Applications must be one-sided and unbound. You must submit one signed original and two signed copies of the completed application (including supporting information). We will accept neither facsimile applications, nor electronically forwarded applications.

Three copies (one original and two copies) of each application are required and should be submitted to the NMFS Southeast Regional Office, State/Federal Liaison Office (see ADDRESSES). We must receive your application by close of business (5 p.m. eastern daylight time on June 27, 2003. Applications received after that time will not be considered for funding. All incomplete applications are returned to the applicant.

VIII. Application Review and Selection Process

When we receive applications we will screen them to ensure that they were received by the deadline date (see DATES); include SF 424 signed and dated by an authorized representative; were submitted by an eligible applicant; address the program purpose; and include a budget, statement of work, milestones, and identify the principal organizations carrying out work under the grant.

Merit Review - Applications responsive to this solicitation will be evaluated by a review panel of three individuals with disaster assistance expertise, in order to determine their merit. Reviewers will assess the applications on the criteria listed below, which are weighted equally. Each reviewer will provide individual evaluations of the proposals Based on these individual evaluations, reviewers will rank the applications received on behalf of the fishing industries of the states listed in section II above.

The following Evaluation Criteria will be applied by the reviewers: (1) Importance/relevance and applicability of application - how the application relates to the accomplishments of the program's purpose; (2) Technical/scientific merit - whether the application has sufficient technical and scientific merit that will adequately address project goals and objectives; (3) Overall qualifications of the applicant - experience with the fisheries industry; (4) Project costs - whether the proposed costs are reasonable and consistent with Section III, Funding Availability; and (5) Outreach and education - whether the scope of the application's proposed activities are sufficient to disseminate disaster relief information.

Following the merit review, the applications will be provided to the Regional Administrator, Southeast Region, who is the selecting official. In determining the projects to be recommended for funding, the Regional Administrator will consider the evaluation and rankings of the review panel members, along with the following selection factors: Availability of funding; balance/distribution of funds by geography/institutions/project types; duplication of other projects funded or considered for funding by NOAA/Other Federal Agencies; program priorities and policy factors; applicants' prior award performance; and partnerships with/participation of targeted groups.

IX. Award Administration Information

1. Award Notices - Successful applications generally will be notified approximately within 45 days from the date of publication of this notice. Projects must not be initiated until a signed award is received from the NOAA grants Office. Unsuccessful applications will be returned to the applicant.

2. Administrative Requirements - If you are selected to receive a grant award for a project, you must:

- Manage the day-to-day operations of the project, be responsible for the performance of all activities for which funds are granted, and be responsible for the satisfaction of all administrative and managerial conditions imposed by the award.

- Keep records sufficient to document any costs incurred under the award, and allow access to these records for audit and examination by the Secretary of Commerce, the Comptroller General of the United States, or their authorized representatives; and, submit financial status reports (SF 269) to NOAA Grants in accordance with the award conditions.

3. Reporting - Successful applicants will be required to:

- Submit semiannual project status reports on the use of funds and progress of the project to us within 30 days after the end of each 6-month period. You will submit these reports to the individual identified as the NMFS Program Officer in the funding agreement.

- Submit a final report within 90 days after completion of each project to the NMFS Program Officer. The final report must describe the project and include an evaluation of the work you performed and the results and benefits in sufficient detail to enable us to assess the success of the completed project. We will provide you with formats for the semiannual and final reports.

We are committed to using available technology to achieve the timely and wide distribution of final reports to those who would benefit from this information. Therefore, you are encouraged to submit final reports in electronic format, in accordance with the award terms and conditions. You may charge the costs associated with preparing and transmitting your final reports in electronic format to the grant award.

X. Other Requirements

The Department of Commerce Pre-Award Notification Requirements for Grants and Cooperative Agreements contained in the Federal Register notice of October 1, 2001 (66 FR 49917), as amended by the Federal Register notice published on October 30, 2002 (67FR 55109), are applicable to this solicitation.

Intergovernmental Review - Applications under this program are subject to the provisions of Executive Order 12372, Intergovernmental Review of Federal Programs. Applicants must contact their State's Single Point of Contact (SPOC) to find out about and comply with the State's process under Executive Order 12372. The names and addresses of the SPOCs are listed in the Office of Management and Budget's home page at http://www.whitehouse.gov/omb/grants/spoc.html.

Classification

This action has been determined to be not significant for the purposes of Executive Order 12866.

Prior notice and an opportunity for public comment are not required by the Administrative Procedure Act or any other law for this notice concerning grants, cooperative agreements, benefits and contracts. 5 U.S.C. 553(a)(2). Therefore, a regulatory flexibility analysis is not required for the purposes of the Regulatory Flexibility Act 5 U.S.C. 601 et seq.

Notwithstanding any other provision of law, no person is required to respond to, nor shall any person be subject to a penalty for failure to comply with, a collection of information subject to the Paperwork Reduction Act, unless that collection displays a currently valid Office of Management and Budget (OMB) control number. This notice contains collection-of-information requirements subject to the Paperwork Reduction Act. The use of Standard Forms 424, and 269 has been approved by OMB under the respective control numbers 0348-0043, and 0348-0039.

Dated: May 20, 2003.
John Oliver,
Deputy Assistant Administrator for Operations, Natiuonal Marine Fisheries Service.

[FR Doc. 03-13272 Filed 5-27-03; 8:45 am]

BILLING CODE 3510-22-S